DEPARTMENT OF THE INTERIOR

Bureau of Indian Affairs

Indian Gaming

AGENCY: Bureau of Indian Affairs, Interior.

ACTION: Notice of amendment to approved Tribal-State Compact.

SUMMARY: Pursuant to Section 11 of the Indian Gaming Regulatory Act (IGRA), Pub. L. 100-497, 25 U.S.C. 2710, the Secretary of the Interior shall publish, in the Federal Register, notice of approved Tribal-State Compacts for the purpose of engaging in Class III gaming on Indian lands. The Assistant Secretary—Indian Affairs, Department of the Interior, through his delegated authority, has approved the Amendment to the Interim Agreement with the State of Montana and the Confederated Salish and Kootenai Tribes, which was executed on March 21, 2000.

DATES: This action is effective May 12, 2000.

FOR FURTHER INFORMATION CONTACT: George T. Skibine, Director, Office of Indian Gaming Management, Bureau of Indian Affairs, Washington, DC 20240. (202) 219-4066.

Dated: May 3, 2000.
Kevin Gover,
Assistant Secretary—Indian Affairs.

[FR Doc. 00-11943 Filed 5-11-00; 8:45 am]

BILLING CODE 4310-02-P